DEPARTMENT OF TRANSPORTATION

Surface Transportation Board

[STB Docket No. MC-F-17950]

Mayflower Transit, LCC—Pooling Agreement

AGENCY: Surface Transportation Board.

ACTION: Request for comments.

SUMMARY: Mayflower Transit, LLC (Mayflower), on behalf of itself and certain affiliated companies, filed an application with the Board under 49 U.S.C. 14302 for approval of revisions to its pooling agreement. The Board establishes a procedural schedule for the submission of public comments on the proposed revisions, principally the requirement that carrier agents may not transport under their own motor carrier authority any interstate shipments of household goods except, subject to Mayflower policies, shipments for the government. After reviewing any comments received, the Board will determine whether it has sufficient information to decide whether the proposed revisions meet the standard for approval under section 14302 or whether a hearing is necessary prior to such a determination.

DATES: Comments on the proposed revisions to Mayflower's pooling agreement shall be filed by July 2, 2009. Mayflower may file a response to any comments by July 17, 2009.

ADDRESSES: An original and 10 copies of all pleadings, referring to STB Docket No. MC-F-17950, must be filed with the Surface Transportation Board, 395 E Street, SW., Washington, DC 20423-0001. In addition, one copy of all pleadings must be served on Mayflower's representative, James A. Calderwood, Zuckert, Scoutt & Rasenberger L.L.P., 888 Seventeenth Street, NW., Washington, DC 20006-3309.

FOR FURTHER INFORMATION CONTACT: Julia Farr, (202) 245-0359. [Assistance for the hearing impaired is available through the Federal Information Relay Service (FIRS) at 1-800-877-8339.]

SUPPLEMENTARY INFORMATION: Additional information is contained in the Board's decision, available on our Web site at http://www.stb.dot.gov.

Decided: May 12, 2009.
By the Board, Acting Chairman Mulvey, and Vice Chairman Nottingham.
Jeffrey Herzig,
Clearance Clerk.

[FR Doc. E9-11535 Filed 5-15-09; 8:45 am]

BILLING CODE 4915-01-P